DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans that are final within the meaning of 23 U.S.C. 139(l)(1). The actions relate to a proposed highway project, State Route 1/Calera Parkway/Highway 1 Widening Project (from South of Fassler Avenue to North of Reina Del Mar Avenue in the City of Pacifica) in the County of San Mateo, State of California (Post Miles 41.7 to 43.0). Those actions grant licenses, permits, and approvals for the project.

DATES: By this notice, the FHWA, on behalf of Caltrans, is advising the public of final agency actions subject to 23 U.S.C. 139(l)(1). A claim seeking judicial review of the Federal agency actions on the highway project will be barred unless the claim is filed on or before May 11, 2015. If the Federal law that authorizes judicial review of a claim provides a time period of less than 150 days for filing such claim, then that shorter time period still applies.

FOR FURTHER INFORMATION CONTACT: Yolanda Rivas, District Branch Chief, Caltrans District 4 Office of Environmental Analysis, 111 Grand Avenue, P.O. Box 23660, Oakland, CA 94623-0660, 8:00 a.m.-5:00 p.m., Pacific Standard Time, Telephone (510) 286-6216, email yolanda.rivas@dot.ca.gov.

SUPPLEMENTARY INFORMATION: Effective July 1, 2007, the Federal Highway Administration (FHWA) assigned, and the California Department of Transportation (Caltrans) assumed, environmental responsibilities for this project pursuant to 23 U.S.C. 327. Notice is hereby given that Caltrans has taken final agency actions subject to 23 U.S.C. 139(l)(1) by issuing licenses, permits, and approvals for the following highway project in the State of California: State Route 1/Calera Parkway/Highway 1 Widening Project (from South of Fassler Avenue to North of Reina Del Mar Avenue in the City of Pacifica). The project will widen Highway 1/State Route 1/Calera Parkway in the city of Pacifica from four lanes to six lanes, extending from approximately 1,500 feet south of Fassler Avenue to approximately 2,300 feet north of Reina Del Mar Avenue, a distance of approximately 1.3 miles. The purpose of the project is to improve traffic operations by decreasing traffic congestion and improving peak-period travel times along a congested segment of State Route 1 within the city of Pacifica. Construction of the project is estimated to commence in spring of 2014 and is anticipated to take approximately two years. The actions by the Federal agencies, and the laws under which such actions were taken, are described in the Environmental Impact Report/Environmental Assessment (EIR/EA) for the project, approved on August 2, 2013, in the Finding of No Significant Impact (FONSI) issued on August 2, 2013, and in other documents in the FHWA project records. The EIR/EA, FONSI, and other project records are available by contacting Caltrans at the address provided above. The Caltrans IS/EA and FONSI can be viewed and downloaded from the project Web site at http://www.dot.ca.gov/dist4/envdocs.htm#sanmateo.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [49 U.S.C. 303].

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.].

6. Social and Economic: Civil Rights Act of 1964 [42 U.S.C. 2000(d)-2000(d)(1)].

7. Wetlands and Water Resources: Clean Water Act (Section 404, Section 401, Section 319) [33 U.S.C. 1251-1377]; Safe Drinking Water Act (SDWA) [42 U.S.C. 300(f)-300(j)(6)].

8. Executive Orders: E.O. 11990 Protection of Wetlands; E.O. 11988 Floodplain Management; E.O. 12898 Federal Actions To Address Environmental Justice in Minority Populations and Low Income Populations; E.O. 13112 Invasive Species.

(Catalog of Federal Domestic Assistance Program Number 20.205, Highway Planning and Construction. The regulations implementing Executive Order 12372 regarding intergovernmental consultation on Federal programs and activities apply to this program.)

Authority: 23 U.S.C. 139(l)(1)

Issued on: December 4, 2014.
Shawn Oliver,
Environmental/ROW Team Leader, Federal Highway Administration, Sacramento, California.

[FR Doc. 2014-28920 Filed 12-9-14; 8:45 am]

BILLING CODE 4910-RY-P